DEPARTMENT OF JUSTICE

Immigration and Naturalization Service

8 CFR Parts 103, 214, 248, and 264

[INS No. 2059-00]

RIN 1115-AF29

Procedures for Processing Temporarily Agricultural Worker (H-2A) Petitions by the Secretary of Labor

AGENCY: Immigration and Naturalization Service, Justice.

ACTION: Proposed rule; extension of comment period.

SUMMARY: On July 13, 2000, at 65 FR 43535, the Immigration and Naturalization Service (Service) published a proposed rule in the Federal Register, to amend its regulations regarding the temporary agricultural worker (H-2A) program. The proposed rule requires alien workers to sign a petition request for change of status or extension of stay; provides that all petition requests including extension of stay and change of status petitions must be filed with the Department of Labor (DOL); and provides that the current Service petition fee will be collected by DOL as a part of a combined fee. To ensure that the public has ample opportunity to fully review and comment on the proposed rule, this notice extends the public comment period from August 14, 2000, through September 18, 2000.

DATES: Written comments must be submitted on or before September 18, 2000.

ADDRESSES: Please submit written comments, in triplicate, to the Director, Policy Directives and Instructions Branch, Immigration and Naturalization Service, 425 I Street, NW, Room 4034, Washington, DC 20536. To ensure proper handling, please reference INS No. 2059-00 on your correspondence.

FOR FURTHER INFORMATION CONTACT: John W. Brown, Office of Adjudications, Business and Trade Services Branch, Immigration and Naturalization Service, 425 I Street, NW, Room 3214, Washington, DC 20536, telephone 202-353-8177.

Dated: August 14, 2000.
Doris Meissner,
Commissioner, Immigration and Naturalization Service.

[FR Doc. 00-21047 Filed 8-15-00; 11:28 am]

BILLING CODE 4410-10-M